DEPARTMENT OF COMMERCE

National Oceanic and Atmospheric Administration

Proposed Information Collection; Comment Request; NMFS Alaska Region Vessel Monitoring System (VMS) Program

AGENCY: National Oceanic and Atmospheric Administration (NOAA).

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before July 20, 2009.

ADDRESSES: Direct all written comments to Diana Hynek, Departmental Paperwork Clearance Officer, Department of Commerce, Room 7845, 14th and Constitution Avenue, NW., Washington, DC 20230 (or via the Internet at dHynek@doc.gov).

FOR FURTHER INFORMATION CONTACT: Requests for additional information or copies of the information collection instrument and instructions should be directed to Patsy A. Bearden, 907-586-7008 or patsy.bearden@noaa.gov.

SUPPLEMENTARY INFORMATION:

I. Abstract

Under the authority of the Magnuson-Stevens Fishery Conservation and Management Act (16 U.S.C. 1801 et seq)., National Marine Fisheries Service (NMFS), Alaska Region, directs a satellite-based vessel monitoring program to locate fishing vessels and monitor compliance with area restrictions in the Gulf of Alaska, Bering Sea, and Aleutian Islands. The Vessel Monitoring System (VMS) allows the NMFS Office for Law Enforcement to monitor and survey vessels over vast expanses of open-water while maintaining the confidentiality of fishing positions.

II. Method of Collection

Automatic Global Positioning System (GPS) position reporting starts after VMS transceiver installation and power activation onboard the vessel. The unit is pre-configured and tested for NMFS VMS operations. VMS check-in with NMFS, by fax, is required one time from participants upon VMS installation on a vessel. Thereafter, submittal is automatic by satellite.

III. Data

OMB Control No: 0648-0445.

Form Number: None.

Type of Review: Regular submission.

Affected Public: Individuals or households; business or other for-profit organizations.

Estimated Number of Respondents: 1,842.

Estimated Time per Response: 12 minutes for VMS check-in report; 6 hours for VMS installation; 4 hours for VMS maintenance.

Estimated Total Annual Burden Hours: 7,640.

Estimated Total Annual Cost to Public: $858,151.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: May 13, 2009.
Gwellnar Banks,
Management Analyst, Office of the Chief Information Officer.

[FR Doc. E9-11566 Filed 5-18-09; 8:45 am]

BILLING CODE 3510-22-P